FEDERAL TRADE COMMISSION

Announcement of Public Workshop on Office and Cleaning Supply Fraud

AGENCY: Federal Trade Commission.

ACTION: Announcement of public workshop on office and cleaning supply fraud.

SUMMARY: The Federal Trade Commission will hold a public workshop on November 8, 2001, to explore the marketing practices of the office and cleaning supply industry.

Dates and Location: The workshop will be held on November 8, 2001, at the Commission, 600 Pennsylvania Ave., NW., Washington, DC from 8:15 a.m. to 5:00 p.m. There is no fee to attend the workshop. Advance registration is requested but not required. In addition, written statements responding to the workshop topics below and other issues would be appreciated in advance. You may register in advance via email to jwright@ftc.gov or by calling Janet Wright at (202) 326-2832.

FOR FURTHER INFORMATION CONTACT: Elena Paoli, Attorney, Bureau of Consumer Protection; phone (202) 326-2974; fax (202) 326-2558; email epaoli@ftc.gov; 601 Pennsylvania Ave., NW., Room S-4623, Washington, DC 20580.

SUPPLEMENTARY INFORMATION:

Background and Workshop Goals

As part of the Commission's ongoing efforts to combat office and cleaning supply fraud, the Commission requests information from and the participation of interested parties. Since the Telemarketing Sales Rule's issuance in December 1995,¹ the Commission has filed more than 20 lawsuits against office and cleaning supply telemarketing operations. Almost all of the victims in these cases have been small businesses and non-profit organizations.² Consumer complaint data shows that office supply fraud is not abating.

¹ 16 CFR part 310.

² Commission Testimony, Senate Small Business Committee, March 27, 2000, p. 1.

The Commission is interested in exploring current marketing practices in the office and cleaning supply industry and how the sales practices of office and cleaning supply telemarketers have changed since the Rule's inception. Information about how businesses and organizations purchase office supplies would also be helpful. The goal of the upcoming workshop is to educate the Commission and the public about current business practices of office supply telemarketers and what further law enforcement or education efforts could help eradicate fraud in this industry.

Topics To Be Addressed

• How the frauds work.

• Federal and state law enforcement initiatives.

• Business education efforts.

• Principal sales methods of industry members.

• Role of online sales and faxes.

• The use of fulfillment houses.

• Principal buying patterns of businesses and organizations.

• Impact of Telemarketing Sales Rule on industry marketing methods.

• Current frauds.

• Additional ways to educate businesses.

• Increasing protections for business through the TSR, including additional mandatory disclosures and requiring invoices to accompany products.

An agenda and additional information will be posted on the Commission's web site, www.ftc.gov, in advance of the workshop.

By direction of the Commission.
Donald S. Clark,
Secretary.

[FR Doc. 01-25551 Filed 10-10-01; 8:45 am]

BILLING CODE 6750-01-M